DEPARTMENT OF THE TREASURY

Office of Foreign Assets Control

Proposed Collection; Comment Request for Payments to Persons Who Hold Certain Categories of Judgments Against Cuba or Iran

AGENCY: Office of Foreign Assets Control, Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of Foreign Assets Control (“OFAC”) within the Department of the Treasury is soliciting comments concerning OFAC's information collection requirements contained within the procedures set forth for persons to establish eligibility for payments authorized by section 2002 of the Victims of Trafficking and Violence Protection Act of 2000 (Act), Public Law No. 106-386 (“Section 2002”). Section 2002 directs the Secretary of the Treasury to make payments to persons who hold certain categories of judgments against Cuba or Iran in suits brought under 28 U.S.C. 1605(a)(7). The procedures pertaining to establishing eligibility for such payments are set forth in Federal Register notices published on November 22, 2000 at 65 FR 70382 and December 15, 2000 at 65 FR 78533.

DATES: Written comments should be received on or before July 30, 2001 to be assured of consideration.

ADDRESSES: Direct all written comments to Dennis P. Wood, Chief, Compliance Programs Division, or Barbara C. Hammerle, Acting Chief Counsel, Office of Foreign Assets Control, Department of the Treasury, 1500 Pennsylvania Avenue, NW., Annex—2d Floor, Washington, DC 20220.

FOR FURTHER INFORMATION CONTACT: Requests for additional information about the filings or procedures should be directed to Dennis P. Wood, Chief, Compliance Programs Division,Office of Foreign Assets Control, Department of the Treasury, 1500 Pennsylvania Avenue, NW., 1500 Pennsylvania Avenue, Annex — 2d Floor, Washington, DC 20220.

SUPPLEMENTARY INFORMATION: Title: Procedures for Payments to Persons Who Hold Certain Categories of Judgments Against Cuba or Iran.

OMB Number: 1505-0177.

Abstract: This information collection pertains to the procedures pertaining to payments to persons who hold certain categories of judgments against Cuba or Iran set forth in the Federal Register notices published by OFAC on November 22, 2000 and December 15, 2000. The collection of this information is required to enable the Department of Treasury to determine the eligibility of an applicant under Section 2002 of Public Law No. 106-386 and to complete processing of payments. The collection of information is voluntary, but submission of the information is required by OFAC in processing applications for payments authorized by Section 2002. The estimated average burden per applicant is 12 hours.

Current Actions: There are no changes being made to the notice at this time.

Type of Review: Extension of a currently approved collection.

Affected Public: Persons who hold certain judgments against Cuba or Iran.

Estimated Number of Respondents: 20.

Estimated Time Per Respondent: 12 hours.

Estimated Total Annual Burden Hours: 240.

The following paragraph applies to all of the collections of information covered by this notice.

An agency may not conduct or sponsor, and a person is not required to respond to, a collection of information unless the collection of information displays a valid Office of Management and Budget (“OMB”) control number. Books or records relating to a collection of information must be retained for five years.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: May 23, 2001.
Barbara C. Hammerle,
Acting Chief Counsel, Office of Foreign Assets Control.

[FR Doc. 01-13519 Filed 5-29-01; 8:45 am]

BILLING CODE 4810-25-P